DEPARTMENT OF DEFENSE

Department of the Navy

Notice of Availability and Notice of Public Meetings for the Draft Supplemental Environmental Impact Statement for Land Acquisition and Airspace Establishment To Support Large-Scale Marine Air Ground Task Force Live-Fire and Maneuver Training at the Marine Corps Air Ground Combat Center, Twentynine Palms, California

AGENCY: Department of the Navy, DoD.

ACTION: Notice.

SUMMARY: Pursuant to section (102)(2)(c) of the National Environmental Policy Act (NEPA) of 1969, and regulations implemented by the Council on Environmental Quality (40 Code of Federal Regulations [CFR] Parts 1500-1508), Department of Navy (DoN) NEPA regulations (32 CFR part 775) and U.S. Marine Corps (USMC) NEPA directives (Marine Corps Order P5090.2A, changes 1-3), the DoN has prepared and filed with the U.S. Environmental Protection Agency (EPA) a Draft Supplemental Environmental Impact Statement (EIS) evaluating the potential environmental impacts that may result from implementing alternative desert tortoise translocation plans at the Marine Corps Air Ground Combat Center, Twentynine Palms (hereinafter “the Combat Center”). The Supplemental EIS is a supplement to the Final EIS for “Land Acquisition and Airspace Establishment to Support Large-Scale Marine Air Ground Task Force Live Fire and Maneuver Training” dated July 2012 (hereinafter “2012 Final EIS”) (77 FR 44234).

With the filing of the Draft Supplemental EIS, the DoN is initiating a 45-day public comment period and has scheduled three public open house meetings to receive oral and written comments on the Draft Supplemental EIS. Federal, state and local agencies and interested parties are encouraged to provide comments in person at any of the public open house meetings, or in writing anytime during the public comment period. This notice announces the dates and locations of the public meetings and provides supplementary information about the environmental planning effort.

DATES: The Draft Supplemental EIS public review period will begin September 30, 2016, and end on November 14, 2016. The USMC is holding three informational open house style public meetings to inform the public about the proposed action and the alternatives under consideration, and to provide an opportunity for the public to comment on the proposed action, alternatives, and the adequacy and accuracy of the Draft Supplemental EIS. USMC representatives will be on hand to discuss and answer questions on the proposed action, the NEPA process and the findings presented in the Draft Supplemental EIS. Public open house meetings will be held:

(1) Tuesday, October 25, 2016, 5:00 p.m. to 8:00 p.m., at the Joshua Tree Community Center, 6171 Sunburst Avenue, Joshua Tree, CA 92252.

(2) Wednesday, October 26, 2016, 5:00 p.m. to 8:00 p.m., at the Palm Springs Convention Center, 277 N. Avenida Caballeros, Palm Springs, CA 92262.

(3) Thursday, October 27, 2016, 5:00 p.m. to 8:00 p.m., at the Barstow Harvey House, 681 N. 1st Avenue, Barstow, CA 92311.

Attendees will be able to submit written comments at the public meetings. A stenographer will be present to transcribe oral comments. Equal weight will be given to oral and written statements. All statements, oral transcription and written, submitted during the public review period will become part of the public record on the Draft Supplemental EIS and will be responded to in the Final Supplemental EIS. Comments may also be submitted by U.S. mail or electronically via the project Web site provided below.

ADDRESSES: A copy of the Draft Supplemental EIS is available at the project Web site, http://www.SEISforLAA.com, and at the local libraries identified at the end of this notice. Comments on the Draft Supplemental EIS can be submitted via the project Web site or submitted in writing to: 29Palms SEIS Project Team, c/o Cardno Government Services, 3888 State Street, Ste. 201, Santa Barbara, CA 93105. All comments must be postmarked or received by November 14, 2016, to ensure they become part of the official record. All timely comments will be responded to in the Final Supplemental EIS.

FOR FURTHER INFORMATION CONTACT: The Resource Management Group at the Combat Center 760-830-3737.

SUPPLEMENTARY INFORMATION: A Notice of Intent to prepare the Supplemental EIS was published in the Federal Register on August 24, 2016 (Vol. 81, No. 164, p. 57891-57893).

Proposed Action

Pursuant to 40 CFR 1502.9(c), the Draft Supplemental EIS evaluates new information relevant to environmental concerns associated with translocation of tortoises from specific training areas on newly acquired lands. Translocation was deemed necessary to mitigate the moderate to high levels of impact on the tortoise population from the Marine Expeditionary Brigade (MEB) training activities assessed in the 2012 Final EIS. A 2012 Biological Opinion (hereinafter “the 2012 BO”) issued by the United States Fish and Wildlife Service (USFWS) approved several conservation measures pertaining to the desert tortoise, including a 2011 General Translocation Plan (GTP). Since the 2012 Final EIS, and the subsequent Record of Decision (ROD) signed by the DON in February 2013 (hereinafter “the 2013 ROD”), the Marine Corps has conducted additional detailed studies and worked cooperatively with the USFWS, the California Department of Fish and Wildlife (CDFW), and the Bureau of Land Management (BLM) on alternative translocation plans for the desert tortoise, as required in the 2012 BO.

The proposed action for this Supplemental EIS includes four fundamental and interrelated components that are reflected in all alternatives:

(1) Recipient and Control Areas. The 2011 GTP identified criteria for selection of recipient areas that should be met for successful translocation to occur. These criteria are consistent with the goals, objectives, and recovery strategies of the 2011 USFWS revised recovery plan for the Mojave population of the desert tortoise and the 2010 USFWS plan development guidance for translocation of desert tortoises.

(2) Translocation Methods. Translocation methods would include handling procedures, fencing, translocation, and clearance surveys. All tortoise handling would be accomplished by the techniques outlined in the Desert Tortoise Field Manual, including the most recent disease prevention techniques. Juvenile tortoises that are too small to wear transmitters would be moved to established juvenile pens at Tortoise Research and Captive Rearing Sites (TRACRS) or Special Use Areas where they may become part of the head start program (the Combat Center's tortoise rearing program). Tortoise exclusion fencing would be installed along certain borders of newly designated Special Use Areas (areas that have not been identified as part of the large-scale training scenarios and that contain habitat supporting desert tortoises) on Combat Center land near maneuver or high use areas.

Desert tortoises that exhibit moderate to severe nasal discharge would not be translocated, and may be sent to a USFWS-approved facility where they would undergo further assessment, treatment, and/or study. For up to the first 5 years following initial translocation, clearance surveys would be conducted in the high- and moderate-impact areas to locate and remove any remaining desert tortoises.

(3) Post-Translocation Monitoring. Radio-telemetry tracking of all translocated tortoises is impractical; however, 20 percent of translocated tortoises, and a similar number of resident and control tortoises, would be tracked using radio-telemetry. Repeated readings of mark-recapture plots where tortoises have been translocated would be conducted to yield information on survival of translocated tortoises, population demography, repatriation, and health. Mark-recapture plots would be used to estimate the tortoise population size by capturing, marking, and releasing a portion of the population, then later capturing another portion and counting the number of marked individuals. Capture, marking, and releasing activities would not involve any ground disturbance. Four subject areas would be investigated by monitoring, each of which is described below:

(a) Survival: Survival of translocated is the main metric for evaluating translocation as a take minimization measure. Survival of translocated tortoises would be measured using two methods: Mark-recapture plots and tracking.

(b) Threats to survival: Anthropogenic disturbances and predator populations that cause potential risks to recovery and translocation success threats would be assessed both qualitatively and quantitatively and compared to current levels.

(c) Habitat stability/changes: Habitat would be assessed to monitor changes or stability during each reading of the mark-recapture plots.

(d) Health and disease: The incidence of disease and other health issues would be monitored using body condition indices, clinical signs of disease, serology, and visual inspection for injuries. This would be accomplished using both telemetered tortoises and all tortoises captured on mark-recapture plots. Any health problems observed (e.g., rapid declines in body condition, perceived outbreaks of disease, mortality events) would be reported to the USFWS, CDFW, and BLM such that appropriate actions could be taken in a timely manner.

(4) Other Research. The Marine Corps, in consultation with USFWS, identified a research program to benefit recovery of the species. Research topics include translocation effectiveness, constrained dispersal (“repatriation” in the 2011 GTP), stocking densities, habitat, and disease.

Two main research topics that would be implemented are summarized below, both of which are anticipated to provide results that are topical and important for recovery.

(a) Experimental Translocation Densities: The intent behind this research is to evaluate the capability of the habitat to sustain a certain density of tortoises.

(b) Constrained Dispersal: Constrained dispersal (called “repatriation” in the 2011 GTP) is a technique wherein tortoises are translocated to a fenced site to encourage settling before the fence is removed.

Purpose and Need

The purpose of the proposed action evaluated in the Supplemental EIS is to study alternative translocation plans in support of the project that was described in the 2012 Final EIS, selected in the 2013 Record of Decision (ROD)(78 FR 11632), and authorized by the National Defense Authorization Act for Fiscal Year 2014. The 2011 GTP, developed during the section 7 Endangered Species Act (ESA) consultation on the 2012 Final EIS proposed action, identified proposed recipient areas, translocation methods, and research treatments based on information available at the time of publication. Studies were planned over the following 3 years to provide information necessary to refine these areas, methods, and treatments. The 2011 GTP explicitly recognized that as a result of these studies, the Combat Center could refine these areas to specific sites and determine better recipient sites not considered in the 2011 GTP. The results of these efforts and further consultation with USFWS and CDFW, identified refinements to translocation methods, recipient sites, and research treatments that could better support the goals of the translocation effort (and became the basis for the action alternatives considered in this Supplemental EIS). The alternative selected in the ROD for the Supplemental EIS will be implemented prior to conducting sustained, combined-arms, live-fire, and maneuver field training for MEB-sized Marine Air Ground Task Forces (MAGTFs) contemplated in the 2012 Final EIS.

The Marine Corps needs to implement the proposed action to satisfy requirements identified in the 2012 Final EIS and associated 2012 BO. The 2012 BO concluded that the implementation of the Preferred Alternative from the 2012 Final EIS would likely result in the “take” of desert tortoises associated with military training, tortoise translocation efforts, and authorized and unauthorized Off-Highway Vehicle (OHV) use by recreationists displaced from former areas of the Johnson Valley OHV Area.

Alternatives Considered in the Draft Supplemental EIS

In light of the purpose and need for the proposed action, the DON has identified two potential action alternatives and a No-Action Alternative for the translocation of desert tortoise from training impact areas.

Each alternative includes recipient areas/sites (to which tortoises would be translocated) and control areas/sites (where the resident tortoise populations will be studied to provide comparative data on survival, threats to survival, habitat stability and changes, and health and disease relative to the translocated tortoise populations at the recipient sites). Each alternative also specifies the details of the proposed tortoise translocation, including specific handling procedures, fencing, clearance surveys, 30 years of post-translocation monitoring, and other research activities.

The Combat Center identified and applied screening criteria from the 2011 USFWS revised recovery plan for the Mojave population of the desert tortoise and the 2011 USFWS revised recovery plan development guidance for translocation of desert tortoises to evaluate and select the proposed recipient areas/sites under each alternative. These criteria relate to land use, habitat quality, population levels, disease prevalence, and distance from collection. The Combat Center also screened for research and monitoring feasibility.

Under the No-Action Alternative, the Marine Corps would conduct translocation of desert tortoises in accordance with the 2011 GTP described in the 2012 BO. Alternatives 1 and 2 primarily differ from the No-Action Alternative in the selection of proposed recipient and control areas and in the distribution of desert tortoises at each release site. Compared to the No-Action Alternative, Alternatives 1 and 2 would also include additional research studies and reflect updated information obtained from the 3-year program of surveys conducted since the 2012 Final EIS. Alternative 2 differs from Alternative 1 in that: (1) One less recipient site would be used; (2) the pairing of control sites to recipient sites would be different; (3) the Bullion control site would be located on the Combat Center instead of within the Cleghorn Lakes Wilderness Area; and (4) translocation densities would be different.

Environmental Effects Identified in the Draft Supplemental EIS

Potential impacts were evaluated in the Draft Supplemental EIS under all alternatives for the following resources: Biological resources, land use, air quality, and cultural resources. The Draft Supplemental EIS analysis evaluates direct, indirect, short-term and long-term impacts, as well as cumulative impacts from other relevant activities.

The Draft Supplemental EIS includes mitigation measures, special conservation measures, and features of project design to avoid or minimize potential impacts. The proposed action would fully comply with regulatory requirements for the protection of environmental resources. A desert tortoise translocation plan has been submitted to the USFWS in compliance with Section 7 of the ESA. The USFWS will issue a revised BO that will be included with the Final Supplemental EIS. In addition, the USMC is coordinating with the California State Historic Preservation Office and affected Native American tribes under Section 106 of the National Historic Preservation Act, and with the Mojave Desert Air Quality Management District under the Clean Air Act.

The proposed action would result in unavoidable impacts related to biological resources (due to desert tortoise translocation as well as impacts to vegetation and desert tortoise habitat resulting from construction of fences and associated maintenance roads); land use (due to desert tortoise translocation); air quality (due to air emissions from construction activities); and potentially cultural resources (due to the fence and road construction; although the fences/roads would be routed to avoid cultural resource sites).

Schedule: The Notice of Availability (NOA) and Notice of Public Meetings (NOPM) publication in the Federal Register and local print media starts the 45-day public comment period for the Draft Supplemental EIS. The DoN will consider and respond to all written, oral and electronic comments, submitted as described above, in the Final Supplemental EIS. The DoN intends to issue the Final Supplemental EIS in January 2017, at which time an NOA will be published in the Federal Register and local print media. A Record of Decision is expected to be published in February 2017.

Copies of the Draft Supplemental EIS can be found on the project Web site, http://www.SEISforLAA.com or at the following locations:

(1) Newton T. Bass Apple Valley Branch Library, 14901 Dale Evans Parkway, Apple Valley, CA 92307

(2) Barstow Branch Library, 304 E. Buena Vista St., Barstow, CA 92311

(3) Joshua Tree Library, 6465 Park Blvd., Joshua Tree, CA 92252

(4) Lucerne Valley Janice Horst Branch Library, 33103 Old Woman Springs Road, Lucerne Valley, CA 92356

(5) Needles Branch Library, 1111 Bailey Ave., Needles, CA 92363

(6) Ovitt Family Community Library, 215 E. C St., Ontario, CA 91764

(7) Stanley Mosk Library and Courts Building, 914 Capitol Mall, Sacramento, CA 95814

(8) San Bernardino County Library Administrative Offices, 777 E. Rialto Avenue, San Bernardino, CA 92415

(9) Twentynine Palms Library, 6078 Adobe Road, Twentynine Palms, CA 92277

(10) Victorville City Library, 15011 Circle Drive, Victorville, CA 92395

(11) Yucca Valley Branch Library, 57098 29 Palms Highway, Yucca Valley, CA 92284

(12) Palm Springs Public Library, 300 S. Sunrise Way, Palm Springs, CA 92262

Dated: September 26, 2016.
C. Mora,
Commander, Judge Advocate General's Corps, U.S. Navy, Federal Register Liaison Officer.

[FR Doc. 2016-23649 Filed 9-29-16; 8:45 am]

BILLING CODE 3810-FF-P